DEPARTMENT OF HEALTH AND HUMAN SERVICES

Centers for Disease Control and Prevention

Rescission of Embargo Prohibiting the Importation of Goat Skin Handicrafts From Haiti Into the United States

AGENCY: Centers for Disease Control and Prevention (CDC), Department of Health and Human Services (HHS).

ACTION: Notice.

SUMMARY: Based on a review of existing import requirements, CDC has determined that the import requirements for goatskin handicrafts from Haiti are no longer necessary to protect the public's health and should therefore be rescinded. Accordingly, effective immediately, CDC is rescinding the advisory memorandum order banning the importation of Haitian goatskin handicrafts (August 14, 1981).

DATES: CDC's advisory memorandum banning importation of Haitian goatskin handicrafts is rescinded on August 22, 2025.

FOR FURTHER INFORMATION CONTACT: Ashley C. Altenburger, J.D., Division of Global Migration Health, Centers for Disease Control and Prevention, U.S. Department of Health and Human Services, 1600 Clifton Road NE, MS H16-4, Atlanta, Georgia 30329; telephone 1-800-232-4636. For information regarding CDC operations and CDC-regulated importations, please contact: Dr. Mark E. Laughlin, D.V.M., Division of Global Migration Health, Centers for Disease Control and Prevention, U.S. Department of Health and Human Services, 1600 Clifton Road NE, MS H16-4, Atlanta, Georgia 30329; telephone 1-800-232-4636.

SUPPLEMENTARY INFORMATION: CDC is rescinding its advisory memorandum order banning the importation of Haitian goatskin handicrafts (August 14, 1981). In keeping with its public health practice of reviewing the status of potential public health threats at U.S. ports of entry, the U.S. Centers for Disease Control and Prevention (CDC) within the U.S. Department of Health and Human Services (HHS), concluded, for the reasons outlined below, that importation requirements for goatskin handicrafts from Haiti no longer serve the interests of public health and should therefore be rescinded. Specifically, CDC has determined that the marginal public health benefit of this long-standing action does not outweigh the potential burden on importers.

Executive Order 14192 of January 31, 2025 on “Unleashing Prosperity Through Deregulation” requires that any new incremental costs associated with certain significant regulatory actions “shall, to the extent permitted by law, be offset by the elimination of existing costs associated with at least 10 prior regulations.” This notice, which rescinds an existing import requirement, meets the criteria of a “deregulatory action” under Executive Order 14192.

CDC Action

Anthrax and Haitian Goat Skin Handicrafts

1. Background

Since 1974, under the authority of 42 CFR 71.32(b), CDC has prohibited the importation of goatskin drums to the United States from Haiti to prevent anthrax transmission 1 2 (QD-CPS Advisory Memorandum No. 61). This longstanding policy was subsequently modified in 1994 to specify Haitian goatskin handicraft derived from untanned rawhide or with attached hair capable of transmitting anthrax (QD-EPI Advisory Memorandum No. 107). Humans can become infected if they handle or are involved in the slaughter of a sick animal or are in contact with contaminated animal products (such as meat, blood, wool, hides, bones).3 4 Anthrax is an acute bacterial disease that can be fatal for humans if untreated. However, humans infected with anthrax generally respond well to most antibiotics (with penicillin G and amoxicillin as the first choice, and ciprofloxacin and doxycycline serving as alternatives). In addition to antibiotic therapy, specific antitoxin serum for anthrax (either polyclonal anthrax immune globulin intravenous or monoclonal antitoxin) may be used in injectional anthrax and systemic anthrax.⁵

¹ CDC. Cutaneous anthrax acquired from imported Haitian drums—Florida. MMWR April 26, 1974; 23: 142, 147. Available at https://stacks.cdc.gov/view/cdc/1690.

² CDC. Anthrax contamination of Haitian goatskin products. MMWR July 17, 1981: pp 338. Available at https://stacks.cdc.gov/view/cdc/1267.

³ CDC. Use of Anthrax Vaccine in the US; Recommendations of the Advisory Committee on Immunization Practices, MMRW 2010: 59 (No. RR-6): [1-30].

⁴ Metcalfe N. The history of woolsorters’ disease: a Yorkshire beginning with an international future? Occup Med (Lond). 2004 Oct;54(7):489-93. doi: 10.1093/occmed/kqh115.

⁵ Doganay M, Dinc G, Kutmanova A, Baillie L. Human Anthrax: Update of the Diagnosis and Treatment. Diagnostics (Basel). 2023 Mar 10;13(6):1056. doi: 10.3390/diagnostics13061056.

2. Rationale for Rescission

In recent decades in the United States, there have been very few human cases of anthrax; additionally, there is effective and affordable treatment for persons exposed to or infected with anthrax.⁶ The U.S. Department of Agriculture—Animal and Plant Health Inspection Service's (USDA-APHIS) Veterinary Services (VS) regulates the importation of untanned ruminant trophy/craft hide importations for anthrax under 9 CFR 95.16 and this oversight will continue despite CDC's action removing the importation ban on goatskin handicrafts.

⁶ CDC. Use of Anthrax Vaccine. MMWR 2010; 59 (No. RR-6): [1-30].

Since 1998, there have been five imported anthrax cases reported in the United States, all of which were associated with imports from countries in Africa, not Haiti.7 8 Four of the five imported cases have been associated with products imported from West African countries, and three were associated with drum-making using illegally imported hides.⁹ The fourth case was associated with a West African drum that had been in the United States for more than a decade.¹⁰ This drum was used frequently by community members, with only one case of anthrax resulting. This indicates a very low risk of anthrax associated with handling animal-hide drums or attending events where such drums are played. The fifth imported case, diagnosed in 2018, was contracted by an individual who had been exposed while working with wildlife in Namibia. CDC's ban on the importation of goat hide drums from Haiti would not have reduced the risk of infection for any of the individuals since 75% of the hides were imported illegally and all products entered the United States from countries in Africa.

⁷ CDC. Gastrointestinal Anthrax after an Animal-Hide Drumming Event—New Hampshire and Massachusetts. MMWR, Vol. 59, No. 28, July 23, 2010. 59(28).

⁸ CDC. Inhalation Anthrax Associated with Dried Animal Hides—Pennsylvania and New York City. MMWR, Vol. 55, No. 10, March 17, 2006 vol. 55, no. 10, 2006

⁹ DC. Cutaneous Anthrax Associated with Drum Making Using Goat Hides from West Africa—Connecticut, 2007. MMWR 2008; 57:628-631.

¹⁰ CDC. Gastrointestinal anthrax after an animal-hide drumming event-New Hampshire and Massachusetts, 2009. MMWR 2010; 59:872-877.

3. Conclusion

CDC has determined that the prohibition on the importation on Haitian goatskin drums and handicrafts into the United States is no longer needed to protect the public's health and should therefore be rescinded. Anthrax is enzootic (naturally present) in U.S. soils ¹¹ and there are effective and financially prudent treatments, including four antibiotics approved by the U.S. Food and Drug Administration (FDA) ¹² and available throughout the United States, as well as three FDA-approved anthrax antitoxin products and a post-exposure vaccine.¹³ Also, because anthrax exists in other countries and neither the United States nor the international community are attempting to eliminate anthrax ¹⁴, there is marginal public health benefit in a narrowly-focused embargo specific to one country. Therefore, an anthrax ban that focuses on one country, such as Haiti, would not be effective. Finally, regulatory oversight by other federal agencies, such as USDA,¹⁵ helps to mitigate risk from anthrax contaminated hides entering the United States, although it does not reduce the risk to zero. For these reasons, the prohibition on the importation of goatskin drums and other goatskin handicraft from Haiti is hereby rescinded.

¹¹ Blackburn JK, McNyset KM, Curtis A, Hugh-Jones ME. Modeling the geographic distribution of Bacillus anthracis, the causative agent of anthrax disease, for the contiguous US using predictive ecological [corrected] niche modeling. Am J Trop Med Hyg. 2007 Dec;77(6):1103-10. Erratum in: Am J Trop Med Hyg. 2008 Feb;78(2):358. PMID: 18165531.

¹² Antibiotics for Anthrax Postexposure Prophylaxis—Prepositioning Antibiotics for Anthrax—NCBI Bookshelf

¹³ CDC. Use of Anthrax Vaccine. MMWR 2010; 59 (No. RR-6): [1-30].

¹⁴ World Organization for Animal Health (WOAH). (2013). In Terrestrial Animal Health Code (8.1). Retrieved from https://www.oie.int/doc/ged/D12825.PDF. Accessed: October 5, 2018. Codes and Manuals—WOAH—World Organisation for Animal Health

¹⁵ USDA Foreign Agricultural Service, FAIRS Annual Country Report Annual, December 31, 2020; Section VII—Other Specific Standards, pp. 10-11.

Immediate Action

Effective immediately, for the reasons outlined above, HHS/CDC rescinds the following: advisory memorandum order banning the importation of Haitian goatskin handicrafts (August 14, 1981).

David Fitter,
Director, Division of Global Migration Health Centers for Disease Control and Prevention, U.S. Department of Health and Human Services.

[FR Doc. 2025-16063 Filed 8-21-25; 8:45 am]

BILLING CODE 4163-18-P